DEPARTMENT OF COMMERCE

International Trade Administration

[A-351-859, A-533-915, A-508-814, A-201-858, A-580-916, A-791-828]

Brass Rod From Brazil, India, Israel, Mexico, the Republic of Korea, and South Africa: Postponement of Preliminary Determinations in the Less-Than-Fair-Value Investigations

AGENCY: Enforcement and Compliance, International Trade Administration, Department of Commerce.

DATES: Applicable September 8, 2023.

FOR FURTHER INFORMATION CONTACT: Claudia Cott (Brazil), Christopher Williams (India), Andrew Hart (Israel), Frank Schmitt (Mexico), Drew Jackson (the Republic of Korea (Korea)), Dmitry Vladimirov (South Africa), AD/CVD Operations, Offices I, II, IV, VI, and IX, Enforcement and Compliance, International Trade Administration, U.S. Department of Commerce, 1401 Constitution Avenue NW, Washington, DC 20230; telephone: (202) 482-4270, (202) 482-5166, (202) 482-1058, (202) 482-4880, (202) 482-4406, (202) 482-0665), respectively.

SUPPLEMENTARY INFORMATION:

Background

On May 17, 2023, the U.S. Department of Commerce (Commerce) initiated less-than-fair-value (LTFV) investigations of imports of brass rod from Brazil, India, Israel, Mexico, Korea, and South Africa.¹ Currently, the preliminary determinations are due no later than October 4, 2023.

¹ See Brass Rod from Brazil, India, Israel, Mexico, the Republic of Korea, and South Africa: Initiation of Less-Than-Fair-Value Investigations, 88 FR 33579 (May 24, 2023) (Initiation Notice).

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On August 23, 2023, the petitioners ² submitted a timely request that Commerce postpone the preliminary determinations in these LTFV investigations to 190 days after the date of initiation of the investigations.³ The petitioners stated that they request postponement due to the size and complexity of the investigations, the extensions of time already granted by Commerce to respondents, and the amount of time that will be needed for Commerce to conduct complete and thorough analyses in these investigations, including the issuance and review of additional supplemental questionnaires.⁴

² The petitioners are the American Brass Rod Fair Trade Coalition and its constituent members, Mueller Brass Co. and Wieland Chase LLC, U.S.

³ See Petitioners' Letter, “Request to Extend Antidumping Preliminary Determinations,” dated August 23, 2023.

⁴ Id.

For the reasons stated above and because there are no compelling reasons to deny the request for postponement, Commerce, in accordance with section 733(c)(1)(A) of the Act, is postponing the deadline for the preliminary determinations by 50 days (i.e., 190 days after the date on which these investigations were initiated). As a result, Commerce will issue its preliminary determinations no later than November 24, 2023.⁵ In accordance with section 735(a)(1) of the Act and 19 CFR 351.210(b)(1), the deadline for the final determinations of these investigations will continue to be 75 days after the date of the preliminary determinations, unless postponed.

⁵ Because the extended deadline for these preliminary determinations falls on a Federal holiday (i.e., November 23, 2023), the deadline becomes the next business day. See Notice of Clarification: Application of “Next Business Day” Rule for Administrative Determination Deadlines Pursuant to the Tariff Act of 1930, As Amended, 70 FR 24533 (May 10, 2005).

This notice is issued and published pursuant to section 733(c)(2) of the Act and 19 CFR 351.205(f)(1).

Dated: September 1, 2023.
Lisa W. Wang,
Assistant Secretary for Enforcement and Compliance.

[FR Doc. 2023-19388 Filed 9-7-23; 8:45 am]

BILLING CODE 3510-DS-P